Title 3—

The President

Presidential Determination No. 2018-05 of April 20, 2018

Eligibility of the Organisation Conjointe de Cooperation en Matiere d'Armement To Receive Defense Articles and Defense Services Under the Foreign Assistance Act of 1961, as Amended, and the Arms Export Control Act, as Amended

Memorandum for the Secretary of State

By the authority vested in me as President by the Constitution and the laws of the United States, including section 503(a) of the Foreign Assistance Act of 1961, as amended, and section 3(a)(1) of the Arms Export Control Act, as amended, I hereby find that the furnishing of defense articles and defense services to the Organisation Conjointe de Cooperation en matiere d'Armement will strengthen the security of the United States and promote world peace.

You are authorized and directed to transmit this determination to the Congress and publish this determination in the Federal Register.

THE WHITE HOUSE,

Washington, April 20, 2018

[FR Doc. 2018-09882

Filed 5-7-18; 8:45 am]

Billing code 4710-10-P